DEPARTMENT OF TRANSPORTATION

Federal Aviation Administration

14 CFR Part 71

[Docket No. FAA-2004-16987; Airspace Docket No. 04-ACE-5]

Establishment of Class E Airspace; Paola, KS

AGENCY: Federal Aviation Administration (FAA), DOT.

ACTION: Final rule.

SUMMARY: This rule establishes a Class E airspace area at Paola, KS. The FAA has developed Standard Instrument Approach Procedures (SIAPs) to serve the Miami County Airport, Paola, KS. Controlled airspace is needed to accommodate the SIAPs.

The effect of this proposal is to provide Class E controlled airspace for aircraft executing the SIAPs and to segregate aircraft using instrument approach procedures in instrument conditions from aircraft operating in visual conditions.

EFFECTIVE DATE: 0901 UTC, June 10, 2004.

FOR FURTHER INFORMATION CONTACT: Kathy Randolph, Air Traffic Division, Airspace Branch, ACE-520C, DOT Regional Headquarters Building, Federal Aviation Administration, 901 Locust, Kansas City, MO 64106; telephone: (816) 329-2525.

SUPPLEMENTARY INFORMATION:

History

On Wednesday, February 25, 2004, the FAA proposed to amend Title 14 Code of Federal Regulations, part 71 (14 CFR part 71) by establishing a Class E airspace area at Paola, KS (69 FR 8583). The FAA has developed an Area Navigation (RNAV) Global Positioning System (GPS) Runway (RWY) 03, ORIGINAL SIAP and an RNAV (GPS) RWY 21, ORIGINAL SIAP to serve Miami County Airport, Paola, KS. Controlled airspace extending upward from 700 feet Above Ground Level (AGL) is needed to accommodate the SIAPs. The proposal was to establish a Class E airspace area extending upward from 700 feet above the surface at Paola, KS. Interested parties were invited to participate in this rulemaking proceeding by submitting written comments on the proposal to the FAA. No comments objecting to the proposal were received.

Class E airspace areas extending upward from 700 feet or more above the surface of the earth are published in Paragraph 6005 of FAA Order 7400.9L, Airspace Designations and Reporting Points, dated September 2, 2003, and effective September 16, 2003, which is incorporated by reference in 14 CFR 71.1. The Class E airspace designation listed in this document will be published subsequently in the Order.

The Rule

This amendment to 14 CFR Part 71 establishes a Class E airspace area extending upward from 700 feet above the surface at Paola, KS. This action provides controlled airspace to accommodate aircraft executing newly developed SIAPs serving Miami County Airport, Paola, KS. The area will be depicted on appropriate aeronautical charts.

The FAA has determined that this regulation only involves an established body of technical regulations for which frequent and routine amendments are necessary to keep them operationally current. Therefore, this regulation—(1) is not a “significant regulatory action” under Executive Order 12866; (2) is not a “significant rule” under DOT Regulatory Policies and procedures (44 FR 11034; February 26, 1979); and (3) does not warrant preparation of a Regulatory Evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for part 71 continues to read as follows:

Authority: 49 U.S.C. 106(g); 40103, 40113, 40120; E.O. 10854, 24 FR 9565, 3 CFR, 1959-1963 Comp., p.389.

§ 71.1 [Amended]

2. The incorporation by reference in 14 CFR 71.1 of Federal Aviation Administration Order 7400.9L, dated September 2, 2003, and effective September 16, 2003, is amended as follows:

Paragraph 6005 Class E airspace areas extending upward from 700 feet or more above the surface of the earth.

* * * * *

ACE KS E5 Paola, KS

Paola, Miami County airport, KS

(Lat. 38°32′25″ N., long. 94°55′13″ W.)

That airspace extending upward from 700 feet above the surface within a 6.4-mile radius of Miami County airport.

* * * * *

Issued in Kansas City, MO, on April 13, 2004.
Paul J. Sheridan,
Acting Manager, Air Traffic Division, Central Region.

[FR Doc. 04-9395 Filed 4-23-04; 8:45 am]

BILLING CODE 4910-13-M